POSTAL SERVICE

Privacy Act of 1974, Computer Matching Program

AGENCY: Postal Service.

ACTION: Notice of Computer Matching Program.

SUMMARY: The Postal Service ™ plans to conduct an ongoing matching program to identify any current Postal Service employees, who are required by state law to register on a state's public registry of sex offenders. State registries contain information about individuals who are statutorily required to register, having committed sexually-violent offenses against adults or children, certain other crimes against victims who are minors, or other comparable offenses. The Postal Service is undertaking this initiative to ascertain the suitability of individuals for certain positions or employment. The Postal Service will compare its payroll database for employees working in designated states against public records contained in the state sex offender registries.

DATES: The matching program will become effective no sooner than 30 days after notice of the matching program is sent to Congress and the Office of Management and Budget (OMB).

ADDRESSES: Written comments on this proposal should be mailed or delivered to the Records Office, Postal Service, 475 L'Enfant Plaza, SW., Room 5846, Washington, DC 20260-5353. Copies of all written comments will be available at the above address for public inspection and photocopying between 8 a.m. and 4 p.m., Monday through Friday.

FOR FURTHER INFORMATION CONTACT: Jane Eyre at 202-268-2608.

SUPPLEMENTARY INFORMATION: The Postal Service seeks to provide the public with accurate and efficient mail delivery to the more than 144 million businesses and residences in this country. Given the public nature of the Postal Service, published standards of conduct for Postal Service employees prohibit any employee from engaging in criminal, dishonest, or similar prejudicial conduct. The Postal Service plans to conduct an internal match that compares records from a Privacy Act of 1974 system of records and a grouping of records that is not subject to the Privacy Act. Under these circumstances, the match does not constitute a matching program subject to the computer matching provisions of the Privacy Act. Nevertheless, the Postal Service is conducting the matching program under these provisions to protect the interests of its employees.

This new computer match program will identify Postal Service employees, who have been required as a matter of law to register on state sexual offender public registries. After extensively verifying the accuracy of the information, the Postal Service will use the information to determine whether reported offenses may impact on an individual's suitability for certain positions or employment. The Postal Service will analyze each occurrence on a case-by-case basis to determine the appropriate action to take. In this regard, the Postal Service will consider the seriousness of the offense, the date of the offense, and the nature of the employee's position with the Postal Service.

The only data to be used in the match is public information, from both the Postal Service and the state public sex offender registries. The Postal Service will extract public information, including employees' name and work location, from its payroll database. This information is public information in accordance with Handbook AS-353, Guide to Privacy and Freedom of Information Act, section 5-2b(3) (available at www.usps.com/privacyoffice), and the Postal Service considers such data to be subject to disclosure requirements under the Freedom of Information Act. The data will be matched against state sexual offender registries, which are posted on various state Web sites for the public.

The Postal Service will take extensive efforts to ensure that the data is accurate. Postal Inspectors will conduct the match and will review the match report in order to verify that the person identified in the state sexual offender public registry is in fact a Postal Service employee. A postal inspector will then determine whether the person is properly included on the public registry by reviewing the relevant facts about the offense from information furnished by relevant law enforcement agencies, such as the arresting agency. The postal inspector will refer, to the Office of the Inspector General (OIG), instances where the employee failed to provide Postal Service management with any required notice of the offense; the OIG will also be informed of other instances of employee misconduct. The inspector or OIG special agent will prepare an investigative memorandum or report of investigation, respectively, which will be sent to the individual employee's installation head. The installation head will ensure that a case-by-case analysis is conducted regarding the appropriate action to be taken. The Postal Service will provide at least 30 days advance notice prior to initiation of any adverse action against a matched individual (unless the Postal Service determines that public health or safety may be affected or threatened pursuant to 5 U.S.C. 552a(p)(3)).

The privacy of employees will be safeguarded and protected. The Postal Service will manage all data in strict accordance with the Privacy Act and the terms of the matching agreement. Any verified data that is maintained will be managed within the parameters of Privacy Act System of Record USPS 700.000, Inspection Service Investigative File System (last published April 29, 2005 (Volume 70, Number 82)); and, for cases referred to the Postal Service OIG, data that is maintained will also be managed within the parameters of Privacy Act System of Record USPS 700.300, Inspector General Investigative Records (last published June 14, 2006 (Volume 71, Number 114)). Disclosures are authorized by a Privacy Act routine use applicable to the payroll system of records (as well as other personnel systems) that pertains to disclosures to Federal and state agencies that are needed by the Postal Service or agency to make decisions regarding personnel matters; and under 5 U.S.C. 552a(b)(2) which authorizes disclosures that would be required under 5 U.S.C. 552 (the Freedom of Information Act).

Key privacy features of the matching agreement include the following:

• Requiring that the identity of matched individuals be verified and that the relevant facts of the offense be confirmed;

• Requiring appropriate security controls for the data match;

• Providing protections for employees who appear as an initial match but who are not subsequently verified as belonging on the state registry of offenders; and

• Requiring the Postal Service to complete the verification, and provide at least 30 days advance notice, prior to initiation of any adverse action against a matched individual (unless the Postal Service determines that public health and safety may be affected or threatened pursuant to 5 U.S.C. 552a(p)(3)).

Neva R. Watson,
Attorney, Legislative.

[FR Doc. E6-17391 Filed 10-17-06; 8:45 am]

BILLING CODE 7710-FW-P